DEPARTMENT OF ENERGY

Federal Energy Regulatory Commission

Combined Notice of Filings #1

Take notice that the Commission received the following electric corporate filings:

Docket Numbers: EC19-69-000.

Applicants: Coolidge Power LLC.

Description: Application for Authorization Under Section 203 of the Federal Power Act, et al. of Coolidge Power LLC.

Filed Date: 3/22/19.

Accession Number: 20190322-5214.

Comments Due: 5 p.m. ET 4/12/19.

Take notice that the Commission received the following exempt wholesale generator filings:

Docket Numbers: EG19-82-000.

Applicants: 225DD 8me LLC.

Description: Self-Certification of EWG Status of 225DD 8me LLC.

Filed Date: 3/25/19.

Accession Number: 20190325-5113.

Comments Due: 5 p.m. ET 4/15/19.

Take notice that the Commission received the following electric rate filings:

Docket Numbers: ER10-1107-006.

Applicants: Pacific Gas and Electric Company.

Description: Supplement to December 19, 2018 Updated Market Power Analysis for the CAISO BAA Market of Pacific Gas and Electric Company.

Filed Date: 3/22/19.

Accession Number: 20190322-5222.

Comments Due: 5 p.m. ET 4/12/19.

Docket Numbers: ER19-1423-000.

Applicants: Virginia Electric and Power Company, PJM Interconnection, L.L.C.

Description: § 205(d) Rate Filing: Dominion submits 4 WDSAs, Service Agreement Nos. 5229, 5301, 5302, 5303 to be effective 12/1/2017.

Filed Date: 3/22/19.

Accession Number: 20190322-5167.

Comments Due: 5 p.m. ET 4/12/19.

Docket Numbers: ER19-1424-000.

Applicants: Langdon Wind, LLC.

Description: Tariff Cancellation: Langdon Wind, LLC Notice of Cancellation of Market-Based Rate Tariff to be effective 3/23/2019.

Filed Date: 3/22/19.

Accession Number: 20190322-5179.

Comments Due: 5 p.m. ET 4/12/19.

Docket Numbers: ER19-1425-000.

Applicants: Midcontinent Independent System Operator, Inc.

Description: § 205(d) Rate Filing: 2019-03-25_SA 3284 Hankinson Wahpeton 230 kV Line MPFCA (J460 J488 J493 J526) to be effective 3/26/2019.

Filed Date: 3/25/19.

Accession Number: 20190325-5066.

Comments Due: 5 p.m. ET 4/15/19.

Docket Numbers: ER19-1426-000.

Applicants: ITC Midwest LLC.

Description: Tariff Cancellation: Cancellation of Corn Belt Joint Use Agreements to be effective 3/11/2019.

Filed Date: 3/25/19.

Accession Number: 20190325-5069.

Comments Due: 5 p.m. ET 4/15/19.

Docket Numbers: ER19-1428-000.

Applicants: ISO New England Inc.

Description: § 205(d) Rate Filing: ISO-NE; Inventoried Energy Program to be effective 5/28/2019.

Filed Date: 3/25/19.

Accession Number: 20190325-5091.

Comments Due: 5 p.m. ET 4/15/19.

Docket Numbers: ER19-1429-000.

Applicants: Midcontinent Independent System Operator, Inc.

Description: § 205(d) Rate Filing: 2019-03-25_SA 3285 Big Stone Terminal Upgrade MPFCA (J488 J493 J526) to be effective 3/26/2019.

Filed Date: 3/25/19.

Accession Number: 20190325-5093.

Comments Due: 5 p.m. ET 4/15/19.

Docket Numbers: ER19-1430-000.

Applicants: PJM Interconnection, L.L.C.

Description: § 205(d) Rate Filing: First Revised ISA, SA No. 2530; Queue No. U4-014/AC1-087 to be effective 2/21/2019.

Filed Date: 3/25/19.

Accession Number: 20190325-5150.

Comments Due: 5 p.m. ET 4/15/19.

Docket Numbers: ER19-1431-000.

Applicants: Columbia Energy LLC.

Description: § 205(d) Rate Filing: Market-Based Rate Tariff Revisions to be effective 3/26/2019.

Filed Date: 3/25/19.

Accession Number: 20190325-5158.

Comments Due: 5 p.m. ET 4/15/19.

Docket Numbers: ER19-1432-000.

Applicants: Midcontinent Independent System Operator, Inc.

Description: § 205(d) Rate Filing: 2019-03-25_SA 3286 Blair Terminal Equip and Disconnects MPFCA (J488 J493 J526) to be effective 3/26/2019.

Filed Date: 3/25/19.

Accession Number: 20190325-5159.

Comments Due: 5 p.m. ET 4/15/19.

Docket Numbers: ER19-1433-000.

Applicants: LifeEnergy, LLC.

Description: § 205(d) Rate Filing: Market-Based Rate Tariff Revisions to be effective 3/26/2019.

Filed Date: 3/25/19.

Accession Number: 20190325-5161.

Comments Due: 5 p.m. ET 4/15/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 25, 2019.
Nathaniel J. Davis, Sr.,
Deputy Secretary.

[FR Doc. 2019-06119 Filed 3-28-19; 8:45 am]

BILLING CODE 6717-01-P